DEPARTMENT OF TRANSPORTATION

National Highway Traffic Safety Administration

49 CFR Parts 573, 574, 576, 579

[Docket No. NHTSA 2001-8677; Notice 4]

RIN 2127-AI25

Reporting of Information and Documents About Potential Defects Retention of Records That Could Indicate Defects

AGENCY: National Highway Traffic Safety Administration (NHTSA), DOT.

ACTION: Correction to final rule.

SUMMARY: This document is the assessment of the National Highway Traffic Safety Administration (NHTSA) of the applicability of the Unfunded Mandates Reform Act which was inadvertently omitted from the preamble of the final rule adopting the early warning reporting provisions of the Transportation Recall Enhancement, Accountability, and Documentation (TREAD) Act and amending other associated agency regulations.

DATES: The effective date of the final rule remains August 9, 2002.

FOR FURTHER INFORMATION CONTACT: Taylor Vinson, Office of Chief Counsel, NHTSA (phone: 202-366-5263).

SUPPLEMENTARY INFORMATION: In FR Doc. 02-17103, 67 FR 45822, July 10, 2002, the National Highway Traffic Safety Administration (NHTSA) inadvertently omitted its assessment of the applicability of the Unfunded Mandates Reform Act from Section X of the preamble, titled “Regulatory Analyses.” This document provides that assessment.

Unfunded Mandates Reform Act

The Unfunded Mandates Reform Act of 1995 (Public Law 104-4) requires agencies to prepare a written assessment of the costs, benefits, and other effects of proposed or final rules that include a Federal mandate likely to result in the expenditures by State, local or tribal governments, in the aggregate, or by the private sector, of more than $100 million annually (adjusted annually for inflation with base year of 1995). Adjusting this amount by the implicit gross domestic product price deflator for the year 2000 results in $109 million (106.99/98.11 = 1.09). The assessment may be included in conjunction with other assessments.

The final rule (67 FR 45822 at 45872-45883) is not estimated to result in expenditures by State, local or tribal governments of more than $109 million annually. It is not estimated to result in the expenditure by motor vehicle and motor vehicle equipment manufacturers, child restraint system manufacturers, and tire manufacturers of more than $109 million annually.

Authority: Sec. 3, Pub. L. 106-414, 114 Stat. 1800 (49 U.S.C. 30102-103, 30112, 30117-121, 30166-167); delegation of authority at 49 CFR 1.50.

Issued on: July 24, 2002.
Jeffrey W. Runge,
Administrator.

[FR Doc. 02-19200 Filed 7-29-02; 8:45 am]

BILLING CODE 4910-59-P